DEPARTMENT OF HOUSING AND URBAN DEVELOPMENT

[Docket No. FR-7092-N-01]

30-Day Notice of Proposed Information Collection: Grant Drawdown Payment Request/LOCCS/VRS Voice Activated Line of Credit System Request OMB Control No.: 2577-0166

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for an additional 30 days of public comment.

DATES: Comments Due Date: March 31, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on February 6, 2024 at 89 FR 7091.

A. Overview of Information Collection

Title of Information Collection: Grant Drawdown Payment Request.

MB Approval Number: 2577-0166.

Type of Request: Extension of a currently approved collection.

Form Number: HUD50080-CFP, HUD50080-OFND, HUD50080-PHTA, HUD50080-URP, HUD50080-SC, HUD50080-FSS, HUD50080-IHBG, HUD50080-TIHD, HUD-27054E, Quarterly Reports, Final Reports.

Description of the need for the information and proposed use: The Line of Credit Control System Request (LOCCS/eLOCCS) is authorized under Sections 102 & 103 of the HUD Reform Act of 1989. The act was enacted to ensure accountability, transparency, and a level playing field in the grants process at the Department. This information collection is necessary to request payment of grant funds or designate an appropriate official. This package provides a means for Grant recipients to receive payments. LOCCS is HUD's primary grant and subsidy disbursement system for most of HUD programs. Organizations and individuals have access to these grants through an internet version of LOCCS called eLOCCS, where authorized Business Partners can access, manage, and drawdown grant funds.

Respondents: Public Housing Agencies, State or Local Governments.

Information collection | Number of respondents | Frequency of responses | Responses per annum | Burden hour per response | Annual burden hours | Hourly cost per response | Annual cost
Capital Fund 50080-CFP | 2,737.00 | 12.00 | 32,844.00 | 0.25 | 8,211.00 | 32.25 | $353,894
Operating Fund 50080-OFND | 2,737.00 | 12.00 | 32,844.00 | 0.25 | 8,211.00 | 32.25 | 353,894
Public Housing Technical Assistance 50080-PHTA | 12.00 | 12.00 | 144.00 | 0.25 | 36.00 | 32.25 | 1,552
Hope VI 50080-URP | 50.00 | 12.00 | 600.00 | 1.00 | 600.00 | 32.25 | 25,860
Resident Opportunities and Supportive Services (ROSS) SC 50080-SC | 400.00 | 12.00 | 4,800.00 | 0.25 | 1,200.00 | 32.25 | 51,720
Family Self-Sufficiency 50080-FSS | 850.00 | 12.00 | 10,200.00 | 0.25 | 2,550.00 | 32.25 | 109,905
Indian Housing Block Grant 50080-IHBG | 361.00 | 12.00 | 4,332.00 | 0.25 | 1,083.00 | 32.25 | 46,677
Traditional Indian Housing Development 50080-TIHD | 32.00 | 12.00 | 384.00 | 0.25 | 96.00 | 32.25 | 4,138
Application for Federal Assistance (SF-424) | 0 | 0 | 0 | 0 | 0 | 0 | 0
27054E eLOCCS Access Authorization Form | 50.00 | 12.00 | 600.00 | 0.17 | 102.00 | 32.25 | 3,289.50
Quarterly Reports | 25 | 4 | 100 | .25 | 25 | 32.25 | 806.25
Final Reports | 25 | 1 | 25 | .50 | 12.5 | 32.25 | 403.13
Totals | 7,279 |  | 86,873 |  | 22,126.5 |  | 713,579.63

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna Guido,
Department Reports Management Officer, Office of Policy Development and Research, Chief Data Officer.

[FR Doc. 2025-03248 Filed 2-27-25; 8:45 am]

BILLING CODE 4210-67-P